ENVIRONMENTAL PROTECTION AGENCY

[ER-FRL-6672-1]

Notice of Intent To Prepare an Environmental Impact Statement for the Designation of an Ocean Dredged Material Disposal Site (ODMDS) Off Gulfport, MS

AGENCY: U.S. Environmental Protection Agency (EPA), Region 4.

Purpose: The U.S. EPA, Region 4, in accordance with section 102(2)(c) of the National Environmental Policy Act (NEPA) and EPA's October 29, 1998 Notice of Policy and Procedures for Voluntary Preparation of National Environmental Policy (NEPA) Documents (63 FR 58045), and in cooperation with the U.S. Army Corps of Engineers (Corps), Mobile District, will prepare a Draft EIS on the designation of a new ODMDS off Gulfport, Mississippi. An EIS is needed to provide the information necessary to designate an ODMDS. This Notice of Intent is issued pursuant to section 102 of the Marine Protection, Research and Sanctuaries Act of 1972, and 40 CFR Part 228 (Criteria for the Management of Disposal Sites for Ocean Dumping).

FOR FURTHER INFORMATION CONTACT: Mr. Douglas K. Johnson, U.S. Environmental Protection Agency, Region 4, Coastal Programs section, 61 Forsyth Street, Atlanta, Georgia 30303, phone (404) 562-9386 or Dr. Susan Ivester Rees, U.S. Army Corps of Engineers, Mobile District, Planning & Environmental Division, Coastal Environment, P.O. Box 2288, Mobile, Alabama 36628, phone (251) 694-4141.

SUMMARY: Ongoing needs for ocean disposal of dredged material and the proposed improvements to the Federal Gulfport Harbor navigation channel have resulted in the need for the designation of a new ODMDS off Gulfport, Mississippi. Gulfport Harbor is located in Harrison County, Mississippi, on Mississippi Sound about equidistant (80 miles) from New Orleans, Louisiana, and Mobile, Alabama. There are currently two existing U.S. EPA-designated ODMDSs located east and west of the Federal channel; however, these sites will not provide sufficient capacity to accommodate the anticipated disposal needs of the upcoming improvements at Gulfport Harbor.

Need for Action: The Corps, Mobile District has requested that U.S. EPA designate a new ODMDS off Gulfport, Mississippi for the disposal of dredged material from the Gulfport Harbor area, when ocean disposal of dredged material is the preferred disposal alternative. An EIS is required to provide the necessary information to evaluate alternatives and designate the preferred ODMDS.

Alternatives: “No action” alternative. The no action alternative is defined as not designating an ocean disposal site. Additional alternatives under consideration include: Nearshore Area Disposal Site; Mid-shelf Area Disposal Site; and a Deepwater Area Disposal Site.

Scoping: Scoping will be accomplished by correspondence with affected Federal, State, and local agencies, and with anticipated interested parties. Appropriate Federal, State, and local entities will be invited to participate as a cooperating agency.

Estimated Date of Release: It is anticipated that the Draft EIS will be made available for public review in spring 2006.

Responsible Official: J.I. Palmer, Jr., Regional Administrator, Region 4.

Dated: February 2, 2006.
Anne Norton Miller,
Director, Office of Federal Activities.

[FR Doc. E6-1727 Filed 2-7-06; 8:45 am]

BILLING CODE 6560-50-P